DEPARTMENT OF LABOR

Employment and Training Administration

[TA-W-62,520]

Carrier Access Corporation, Currently Known as Turin Networks, Boulder, CO; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on January 29, 2008, applicable to workers of Carrier Access Corporation, Boulder, Colorado. The notice was published in the Federal Register on January 25, 2008 (73 FR 4634).

At the request of a company official, the Department reviewed the certification for workers of the subject firm. The workers are engaged in the production of telecommunication equipment.

New information shows that on February 8, 2008, Turin Networks purchased Carrier Access and is currently known as Turin Networks.

Accordingly, the Department is amending this certification to show that Carrier Access Corporation is currently known as Turin Networks.

The intent of the Department's certification is to include all workers of Carrier Access, currently known as Turin Networks who were adversely affected by a shift in production of telecommunication equipment to Mexico.

The amended notice applicable to TA-W-62,520 is hereby issued as follows:

“All workers of Carrier Access Corporation, currently known as Turin Networks, Boulder, Colorado, who became totally or partially separated from employment on or after January 7, 2008, through January 9, 2010, are eligible to apply for adjustment assistance under Section 223 of the Trade Act of 1974.”

“All workers of Carrier Access Corporation, currently known as Turin Networks, Boulder, Colorado, who became totally or partially separated from employment on or after November 27, 2006, through January 9, 2010, are eligible to apply for alternative trade adjustment assistance under Section 246 of the Trade Act of 1974.”

Signed at Washington, DC, this 8th day of July 2008.
Richard Church,
Certifying Officer, Division of Trade Adjustment Assistance.

[FR Doc. E8-16076 Filed 7-14-08; 8:45 am]

BILLING CODE 4510-FN-P